DEPARTMENT OF THE INTERIOR

Bureau of Land Management

[CA-320-1820-XQ]

Notice of Resource Advisory Council Meeting

AGENCY: Bureau of Land Management, Interior, Northwest California Resource Advisory Council, Redding, California.

ACTION: Notice of meeting.

SUMMARY: Pursuant to the authorities in the Federal Advisory Committees Act (Public Law 92-463) and the Federal Land Policy and Management Act (Public Law 94-579), the U.S. Bureau of Land Management's Northwest California Resource Advisory Council will meet Thursday and Friday, March 30 and 31, 2000, for a business meeting and field tour. The meeting and tour are open to the public, but anyone attending must provide their own transportation and lunch.

SUPPLEMENTARY INFORMATION: The meeting begins at 10 a.m. Thursday, March 30, at the Bureau of Land Management's Redding Field Office, 355 Hemsted Drive, Redding, CA. The members will depart immediately for a tour of public lands managed by the BLM's Redding Field Office. On Friday, March 31, the business meeting begins at 8 a.m. in the Conference Room of the Redding Field Office. Agenda items include an update on the Headwaters Forest, the status of the Redding Resource Management Plan amendment process, a status report on recovery from the Lowden Fire, and a status report on a management feasibility study for the Lake Berryessa region.

Time will be set aside for public comments. Depending on the number of persons wishing to speak, a time limit may be established.

FOR ADDITIONAL INFORMATION CONTACT: Lynda J. Roush, BLM Arcata Field Manager, at (707) 825-2300.

Joseph J. Fontana,
Public Affairs Officer.

[FR Doc. 00-2829 Filed 2-9-00; 8:45 am]

BILLING CODE 4310-40-P